DEPARTMENT OF JUSTICE

Notice of Lodging of Consent Decree Under the Comprehensive Environmental Response, Compensation and Liability Act (“CERCLA”)

Notice is hereby given that on August 9, 2006, a proposed consent decree in United States v. NCH Corporation, et al., Civil Action No. 98-5268 (SDW) and United States v. FMC Corporation, et al., Civil Action No. 01-0476 (JCL), was lodged with the United States District Court for the District of New Jersey.

In these actions the United States sought recovery of response costs pursuant to Section 107(a) of CERCLA, for costs incurred related to the Higgins Farm Superfund Site in Franklin Township, New Jersey and the Higgins Disposal Superfund Site in Kingston, New Jersey. The consent decree requires FMC Corporation to pay $14,500,000, plus interest from June 1, 2004 until date of payment, in reimbursement of the United States' response costs at the Higgins Farm Superfund Site; pay $2 million, plus interest from June 1, 2004 until date of payment, in reimbursement of the United States' past response costs at the Higgins Disposal Superfund Site; and pay $225,000.00 to reimburse the United States for the interim costs incurred at the Higgins Disposal Superfund Site while the settlement was being negotiated.

The Department of Justice will receive for a period of thirty (30) days from the date of this publication comments relating to the consent decree. Comments should be addressed to the Assistant Attorney General, Environment and Natural Resources Division, P.O. Box 7611, U.S. Department of Justice, Washington, DC 20044-7611, and should refer to United States v. NCH Corporation, et al., D.J. Ref. #90-11-3-1486/1 or United States v. FMC Corporation, et al., D.J. Ref. #90-11-3-1486/2.

The consent decree may be examined at the Office of the United States Attorney, 970 Broad Street Suite 700, Newark, NJ 07102 (contact Susan Steele) and at U.S. EPA Region II, 290 Broadway, New York, New York 10007-1866 (contact Deborah Schwenk). During the public comment period, the consent decree, may also be examined on the following Department of Justice Web site, http://www.usdoj.gov/enrd/Consent_Decree.html. A copy of the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $10.00 (25 cents per page reproduction cost) payable to the U.S. Treasury or, if by e-mail of fax, forward a check in that amount to the Consent Decree Library at the stated address.

Ronald G. Gluck,
Assistant Chief, Environmental Enforcement Section, Environment and Natural Resources Division.

[FR Doc. 06-7108 Filed 8-22-06; 8:45 am

BILLING CODE 4410-15-M